DEPARTMENT OF COMMERCE

International Trade Administration

[A-570-851]

Certain Preserved Mushrooms From the People's Republic of China: Notice of Initiation of Antidumping Duty New Shipper Reviews

AGENCY: Import Administration, International Trade Administration, Department of Commerce.

SUMMARY: The Department of Commerce (the Department) has received requests for new shipper reviews of the antidumping duty order on certain preserved mushrooms from the People's Republic of China (PRC). See Notice of Amendment of Final Determination of Sales at Less Than Fair Value and Antidumping Duty Order: Certain Preserved Mushrooms From the People's Republic of China, 64 FR 8308 (February 19, 1999). In accordance with section 751(a)(2)(B) of the Tariff Act of 1930, as amended (the Act), and 19 CFR 351.214(d), we are initiating antidumping duty new shipper reviews of Zhangzhou Tongfa Foods Industry Co., Ltd. (Tongfa) and Shandong Fengyu Edible Fungus Corporation Ltd. (Fengyu). The period of investigation (POI) of these new shipper reviews is February 1, 2009 through January 31, 2010.

DATES: Effective Date: March 31, 2010.

FOR FURTHER INFORMATION CONTACT: Fred Baker, Scott Hoefke, or Robert James, AD/CVD Operations, Office 7, Import Administration, International Trade Administration, U.S. Department of Commerce, 14th Street and Constitution Avenue, NW., Washington, DC 20230, telephone: (202) 482-2924, (202) 482-4947, or (202) 482-0649, respectively.

SUPPLEMENTARY INFORMATION:

Background

On February 19, 1999, the Department published the antidumping duty order on certain preserved mushrooms from the PRC. See Notice of Amendment of Final Determination of Sales at Less Than Fair Value and Antidumping Duty Order: Certain Preserved Mushrooms From the People's Republic of China, 64 FR 8308 (February 19, 1999). Thus, the antidumping duty order on certain preserved mushrooms from the PRC has a February anniversary month. On February 25, 2010 and February 26, 2010, the Department received requests for new shipper reviews from Tongfa and Fengyu, respectively. In their respective requests for reviews, Tongfa and Fengyu identified themselves as both exporters and producers of the subject merchandise. The Department determined that both requests contained certain deficiencies and requested that both respondents correct their submissions. See March 11, 2010 and March 17, 2009 letters from Robert James, Program Manager, to Tongfa and Fengyu, respectively. In accordance with the Department's requests, Tongfa and Fengyu corrected the problems in their initial submissions in revised submissions dated March 18, 2010 and March 23, 2010, respectively. For the purpose of initiating these new shipper reviews, the Department determines that Tongfa and Fengyu's original submissions were timely filed.

Pursuant to the requirements set forth in section 751(a)(2)(B)(i) of the Act and 19 CFR 351.214(b)(2), Tongfa and Fengyu certified that (1) they did not export subject merchandise to the United States during the POI (see section 751(a)(2)(B)(i)(I) of the Act and 19 CFR 351.214(b)(2)(i); (2) since the initiation of the investigation they have never been affiliated with any company that exported subject merchandise to the United States during the POI, including those companies not individually examined during the investigation (see section 751(a)(2)(B)(i)(II) and19 CFR 351.214(b)(2)(iii)(A)); and (3) their export activities were not controlled by the central government of the PRC (see 19 CFR 351.214(b)(2)(iii)(B)). Additionally, in accordance with 19 CFR 351.214(b)(2)(iv), Tongfa and Fengyu submitted documentation establishing the following: (1) The date on which they first shipped subject merchandise to the United States; (2) the volume of their first shipments; and (3) the date of their first sales to unaffiliated customers in the United States. They also certified they had no shipments to the United States during the period subsequent to their first shipments.

Initiation of Reviews

Based on information on the record and in accordance with section 751(a)(2)(B) of the Act and section 351.214(d) of the Department's regulations, we find that the requests Tongfa and Fengyu submitted meet the statutory and regulatory requirements for initiation of new shipper reviews. See Memoranda to the File through Richard Weible, “Initiation of AD New Shipper Review: Certain Preserved Mushrooms from the People's Republic of China (A-570-851),” dated March 31, 2010. Accordingly, we are initiating new shipper reviews of the antidumping duty order on certain preserved mushrooms from the PRC manufactured and exported by Tongfa and Fengyu. These reviews cover the period February 1, 2009 through January 31, 2010. We intend to issue the preliminary results of these reviews no later than 180 days after the date on which these reviews are initiated, and the final results within 90 days after the date on which we issue the preliminary results. See section 751(a)(2)(B)(iv) of the Act and 19 CFR 351.214(h)(i).

In cases involving non-market economies, the Department requires that a company seeking to establish eligibility for an antidumping duty rate separate from the country-wide rate provide evidence of de jure and de facto absence of government control over the company's export activities. See, e.g., Wooden Bedroom Furniture from the People's Republic of China: Initiation of Antidumping Duty New Shipper Reviews, 75 FR 10214, 10215 (March 5, 2010). Accordingly, we will issue questionnaires to Tongfa and Fengyu that will include a separate rates section. These reviews will proceed if the response provides sufficient indication that Tongfa and Fengyu are not subject to either de jure or de facto government control with respect to their exports of preserved mushrooms. However, if Tongfa and Fengyu do not demonstrate eligibility for separate rates, they will be deemed not to have met the requirements of section 751(2)(B)(i) of the Act and 19 CFR 351.214(b)(2)(i), and therefore not separate from the PRC-wide entity. We will therefore rescind the new shipper reviews. See, e.g., Certain Preserved Mushrooms from the People's Republic of China: Notice of Initiation of Antidumping Duty New Shipper Review, 74 FR 15698 (April 7, 2009).

We will instruct the CBP to allow, at the option of the importer, the posting, until the completion of the review, of a bond or security in lieu of a cash deposit for certain entries of the subject merchandise produced and exported by Tongfa and produced and exported by Fengyu in accordance with section 751(a)(2)(B)(iii) of the Act and 19 CFR 351.214(e). Because Tongfa and Fengyu certified that they both produce and export the subject merchandise, the sales of which form the basis for their new shipper review requests, we will instruct CBP to permit the use of a bond only for entries of subject merchandise which Tongfa and Fengyu both produced and exported.

Interested parties may submit applications for disclosure under administrative protective order in accordance with 19 CFR 351.305 and 351.306.

These initiations and this notice are issued and published in accordance with section 751(a)(2)(B) of the Act and 19 CFR 351.214 and 351.221(c)(1)(i).

Dated: March 26, 2010.
John M. Andersen,
Acting Deputy Assistant Secretary for Antidumping and Countervailing Duty Operations.

[FR Doc. 2010-7355 Filed 3-30-10; 8:45 am]

BILLING CODE 3510-DS-P